DEPARTMENT OF VETERANS AFFAIRS

38 CFR Part 3

RIN 2900-AJ09

Eligibility Reporting Requirements

AGENCY: Department of Veterans Affairs.

ACTION: Final rule.

SUMMARY: This document adopts as a final rule the provisions of an interim final rule that amended the Department of Veterans Affairs (VA) adjudication regulations concerning eligibility verification reports (EVRs) for recipients of pension under programs in effect prior to January 1, 1979. The amendment reduces the number of circumstances under which VA requires such pensioners to furnish annual EVRs. The intended effect of this amendment is to reduce the reporting burden on these beneficiaries, reduce the workload at VA regional offices, and enable VA to use its resources more effectively.

DATES: Effective Date: March 30, 2000.

FOR FURTHER INFORMATION CONTACT: Don England, Chief, Regulations Staff, Compensation and Pension Service, Veterans Benefits Administration, 810 Vermont Avenue, NW, Washington, DC 20420, telephone (202) 273-7210.

SUPPLEMENTARY INFORMATION: On October 6, 1998, VA published in the Federal Register an interim final rule generally exempting old law and section 306 pension beneficiaries from the requirement to submit annual eligibility verification reports (EVRs). (63 FR 53593-96, October 6, 1998.) The term “old law pension” means the disability and death pension programs that were in effect on June 30, 1960. The term “section 306 pension” means those disability and death pension programs in effect on December 31, 1978. VA uses EVRs to request information, such as income and marital status, that VA needs to determine or verify eligibility for its need-based benefit programs.

We requested interested persons to submit comments on or before December 7, 1998. We received no comments. Based on the rationale set forth in the interim final rule and in this document, we are adopting the interim final rule as a final rule without change, except that we are adding statements explaining that the information collections are approved by the Office of Management and Budget (OMB) under control number 2900-0101. We also affirm the information in the interim final rule document concerning the Regulatory Flexibility Act.

Paperwork Reduction Act

VA submitted the information collection provisions contained in the interim final rule to OMB for review in accordance with the Paperwork Reduction Act of 1995 (44 U.S.C. 3501-3520). The only action concerning information collection is to eliminate certain collections of information. We requested interested parties to submit comments on the collection of information provisions to OMB by October 14, 1998. No comments were submitted. OMB has approved the information collection provisions under control number 2900-0101.

OMB assigns a control number for each collection of information it approves. VA may not conduct or sponsor, and a person is not required to respond to, a collection of information unless it displays a currently valid OMB control number.

The Catalog of Federal Domestic Assistance program numbers are 64.104 and 64.105.

List of Subjects in 38 CFR Part 3

Administrative practice and procedure, Claims, Disability benefits, Health care, Pensions, Veterans, Vietnam.

Approved: February 29, 2000.
Togo D. West, Jr.,
Secretary of Veterans Affairs.

Accordingly, the interim final rule amending 38 CFR part 3 which was published at 63 FR 53593 on October 6, 1998, is adopted as final with the following change:

PART 3—ADJUDICATION

Subpart A—Pension, Compensation, and Dependency and Indemnity Compensation

1. The authority citation for part 3, subpart A continues to read as follows:

Authority: 38 U.S.C. 501(a), unless otherwise noted.

§§ 3.256 and 3.277 [Amended]

2. In §§ 3.256 and 3.277, a parenthetical is added at the end of each section to read as follows:

(The Office of Management and Budget has approved the information collection requirements in this section under control number 2900-0101.)

[FR Doc. 00-7913 Filed 3-29-00; 8:45 am]

BILLING CODE 8320-01-P